DEPARTMENT OF COMMERCE

National Telecommunications and Information Administration

Fostering the Advancement of the Internet of Things Workshop

AGENCY: National Telecommunications and Information Administration, U.S. Department of Commerce.

ACTION: Notice of open meeting.

SUMMARY: The National Telecommunications and Information Administration (NTIA) will convene a workshop on behalf of the U.S. Department of Commerce's Internet Policy Task Force and the Digital Economy Leadership Team on Fostering the Advancement of the Internet of Things.

DATES: The workshop will be held on September 1, 2016, from 9:00 a.m. to 3:00 p.m., Eastern Daylight Time.

ADDRESSES: The workshop will be held at the U.S. Patent and Trademark Office, 600 Dulany Street, Alexandria, Virginia 22314. The location of the meeting is subject to change. Please refer to NTIA's Web site, http://www.ntia.doc.gov/category/internet-things, for the most current information.

FOR FURTHER INFORMATION CONTACT: Travis Hall, National Telecommunications and Information Administration, U.S. Department of Commerce, 1401 Constitution Avenue NW., Room 4725, Washington, DC 20230; telephone (202) 482-3522; email thall@ntia.doc.gov. Please direct media inquiries to NTIA's Office of Public Affairs, (202) 482-7002; email press@ntia.doc.gov.

SUPPLEMENTARY INFORMATION: Recognizing the vital importance of the Internet to U.S. innovation, prosperity, education, and civic and cultural life, the Department of Commerce has made it a top priority to encourage growth of the digital economy and ensure that the Internet remains an open platform for innovation and free expression. As part of the Department's Digital Economy Agenda, the National Telecommunications and Information Administration (NTIA) initiated an inquiry regarding the Internet of Things (IoT) to review the current technological and policy landscape, which included a Request for Comment on “The Benefits, Challenges, and Potential Roles for the Government in Fostering the Advancement of the Internet of Things.” ¹ This workshop will build on the comments received in the Request for Comment, focusing specifically on the potential benefits and challenges of these technologies and what role, if any, the U.S. Government should play in this area. This workshop will help to inform the Department's forthcoming issue-spotting, agenda-setting green paper on IoT.

¹ Request for Comments on the Benefits, Challenges, and Potential Roles for Government in Fostering the Advancement of the Internet of Things (Apr. 5, 2016) available at https://www.ntia.doc.gov/federal-register-notice/2016/rfc-potential-roles-government-fostering-advancement-internet-of-things.

NTIA will post a detailed agenda on its Web site, www.ntia.doc.gov/category/internet-things, prior to the meeting. The workshop will consist of a number of panels and speakers that will explore in more depth the obstacles and opportunities raised by commenters on the federal government's role in IoT deployment. Agenda topics and format are subject to change.

The meeting is open to the public and the press. The meeting is physically accessible to people with disabilities. Requests for sign language interpretation or other auxiliary aids should be directed to Travis Hall at (202) 482-3522 or thall@ntia.doc.gov at least seven (7) business days prior to the meeting. The meeting will also be webcast. Requests for real-time captioning of the webcast or other auxiliary aids should be directed to Travis Hall at (202) 482-3522 or thall@ntia.doc.gov at least seven (7) business days prior to the meeting. Please refer to NTIA's Web site, http://www.ntia.doc.gov/category/internet-things, for the most current information.

Dated: August 5, 2016.
Angela M. Simpson,
Deputy Assistant Secretary, National Telecommunications and Information Administration.

[FR Doc. 2016-19048 Filed 8-10-16; 8:45 am]

BILLING CODE 3510-60-P